ENVIRONMENTAL PROTECTION AGENCY

40 CFR Parts 141 and 143

[EPA-HQ-OW-2008-0644; FRL-8920-8]

RIN 2040-AF00

National Primary Drinking Water Regulations: Minor Correction to Stage 2 Disinfectants and Disinfection Byproducts Rule and Changes in References to Analytical Methods

AGENCY: Environmental Protection Agency.

ACTION: Final rule.

SUMMARY: In this action, EPA is making a minor correction to the Stage 2 Disinfectants and Disinfection Byproducts Rule (DBPR) and minor, unrelated, editorial changes in references to analytical methods in the regulations. EPA promulgated the Stage 2 Disinfectants and Disinfection Byproducts Rule on January 4, 2006. A requirement for ground water systems serving 500-9,999 people was unintentionally excluded from the final rule. As a result, the rule allowed for less routine compliance monitoring than intended for this category of public water systems (PWSs). These PWSs should have been required to monitor for both total trihalomethanes (TTHM) and haloacetic acids (HAA5) concentrations at two locations. Due to the error, they were only required to monitor for either TTHM or HAA5 at two locations. EPA is also making minor, unrelated changes in the regulations by adding references to the list of analytical methods approved under the Expedited Approval Process, removing references to outdated methods, and specifying a new source for the publication titled Technical Notes on Drinking Water Methods.

DATES: This final rule is effective on July 29, 2009. For judicial review purposes, this final rule is promulgated as of June 29, 2009. The incorporation by reference of certain publications listed in this rule is effective as of June 29, 2009.

ADDRESSES: EPA has established a docket for this action under Docket ID No. OW-2008-0644. All documents in the docket are listed on the www.regulations.gov Web site. Although listed in the index, some information is not publicly available, e.g., CBI or other information whose disclosure is restricted by statute. Certain other material, such as copyrighted material, is not placed on the Internet and will be publicly available only in hard copy form. Publicly available docket materials are available either electronically through www.regulations.gov or in hard copy at the OW Docket, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the OW docket is (202) 566-2426.

FOR FURTHER INFORMATION CONTACT: For information concerning the Stage 2 DBPR minor correction contact Tom Grubbs, Standards and Risk Management Division, Office of Ground Water and Drinking Water, M/C 4607M, Environmental Protection Agency, 1200 Pennsylvania Avenue, NW., Washington, DC 20460; telephone number (202) 564-5262; e-mail address grubbs.thomas@epa.gov. For information concerning the methods reference update in the CFR contact Patricia Fair, Standards and Risk Management Division, Technical Support Center, Office of Ground Water and Drinking Water, M/C 140, Environmental Protection Agency, 26 West Martin Luther King Drive, Cincinnati, Ohio 45268; telephone number (513) 569-7937; e-mail address fair.pat@epa.gov. For general information, contact the Safe Drinking Water Hotline, telephone number: (800) 426-4791. The Safe Drinking Water Hotline is open Monday through Friday, excluding legal holidays, from 10 a.m. to 4 p.m. Eastern time.

SUPPLEMENTARY INFORMATION:

I. General Information

A. Does This Action Apply to Me?

Entities potentially regulated by this regulation are public water systems (PWSs). A public water system, as defined by section 1401 of the Safe Drinking Water Act (SDWA), is “a system for the provision to the public of water for human consumption through pipes or other constructed conveyances, if such system has at least fifteen service connections or regularly serves at least twenty-five individuals.” EPA defines “regularly served” as receiving water from the system 60 or more days per year. Categories and entities potentially regulated by this action include the following:

Category | Examples of potentially regulated entities
State, Tribal and Local Government | State, Tribal or local government-owned/operated water supply systems using ground water, surface water or mixed ground water and surface water.
Federal Government | Federally owned/operated community water supply systems using ground water, surface water or mixed ground water and surface water.
Industry | Privately owned/operated community water supply systems using ground water, surface water or mixed ground water and surface water.

This table is not intended to be an exhaustive list, but rather provides a guide for readers regarding entities likely to be regulated by this action. This table lists the types of entities that EPA is now aware could potentially be regulated by this action. Other types of entities not listed in the table could also be regulated. To determine whether your facility is regulated by this action, you should carefully examine the definition of “public water system” in § 141.2, the section entitled “Coverage” (§ 141.3), and the sections entitled “General requirements” (§§ 141.600 and 141.620) in Title 40 of the Code of Federal Regulations and applicable criteria in §§ 141.605, and 141.621 of today's rule. If you have questions regarding the applicability of this action to a particular entity, consult the person listed in the preceding FOR FURTHER INFORMATION CONTACT section.

B. Minor Correction to the Stage 2 Disinfection and Disinfectant Byproduct Rule (DBPR)

Today's final rule corrects, as proposed (73 FR 67456, November 14, 2008) (USEPA, 2008b), a revised monitoring frequency for ground water systems serving 500-9,999 people to correct an error introduced when the tables were modified prior to publication of the (January 4, 2006) final rule. EPA has corrected the regulatory footnote at 40 CFR 141.605 and 141.621 to clarify that these systems must take dual rather than single monitoring samples. The monitoring for these small systems is not required to begin until the year 2012 or 2013 (page 415, USEPA 2006).

In the Stage 2 DBPR Economic Analysis (USEPA, 2005a) and in the Information Correction Rule Supporting Statement (Page 52, USEPA 2005b), EPA based the estimate of burden for these systems using the intended monitoring frequency. Population-based monitoring is discussed at length in the final Stage 2 DBPR (page 429, USEPA, 2006a) and the additional costs for monitoring by ground water systems serving 500-9,999 people are included (page 456, USEPA, 2006a). EPA is not developing a new economic analysis for this final rule because the existing economic analysis accounts for all costs associated with this rule.

C. Changes Related to Analytical Methods

1. Cross-references to Appendix A to Subpart C of Part 141.

When EPA determines that an alternative analytical method is “equally effective” (i.e., as effective as a method that has already been promulgated in the regulations), the Safe Drinking Water Act (SDWA) allows EPA to approve the use of the alternative method through publication in the Federal Register. Section 1401(1) of SDWA states that the newly approved methods “shall be treated as an alternative for public water systems to the quality control and testing procedures listed in the regulation.” EPA approved the first set of alternative methods using this authority in a Federal Register action published on June 3, 2008 (73 FR 31616) (USEPA 2008a). As part of that action, EPA added an appendix (Appendix A) to the regulations at 40 CFR Part 141, which lists the newly approved methods.

The current Part 141 drinking water regulations do not indicate that additional approved methods are available and are listed in an appendix. Therefore, EPA is amending the regulations at each section that lists approved analytical methods to add cross references to Appendix A to subpart C of part 141. This will make public water systems, laboratories, and States more aware of the alternative methods. References to the appendix are added at the following places:

—Section 141.21(f)(3) and (f)(6)

—Section 141.23(k)(1)

—Section 141.24(e)

—Section 141.25(a)

—Section 141.74(a)(1) and (a)(2)

—Section 141.131(b)(1), (c)(1), and (d)

—Section 141.402(c)(2)

—Section 141.704(a) and (b)

—Section 143.4(b)

2. Removal of methods that are no longer approved.

When the arsenic maximum contaminant level (MCL) was revised to 0.010 mg/L, some of the analytical methods that were previously approved for analyzing samples for arsenic were no longer sensitive enough to determine compliance. EPA added footnote 15 to the table at 40 CFR 141.23(k)(1) to indicate that use of these methods would not be allowed after January 23, 2006. EPA is updating the listing of approved arsenic methods to remove methods that are no longer allowed (EPA 200.7, SM 3120 B and SM 3120 B-99). EPA is also revising footnotes 13 and 14 to the table to paragraph (k)(1) to remove references to methods that are no longer approved to determine arsenic. EPA is also removing Footnote 15 and reserving this footnote number for future use.

Paragraph (e)(2) of 40 CFR 141.24 lists methods that were approved for use until June 1, 2001. Since these methods are no longer approved, EPA is removing the paragraph. EPA is also removing footnote 1 to the table at 40 CFR 141.24(e)(1) because it refers to 40 CFR 141.24(e)(2). Footnote 1 is reserved for future use. The header to the table is revised to remove the reference to footnote 1.

3. Source for obtaining copies of Technical Notes on Drinking Water Methods, EPA-600/R-94-173, October 1994.

This document is now available at no cost from the National Service Center for Environmental Publications (NSCEP), P.O. Box 42419, Cincinnati, OH 45242-0419 or http://www.epa.gov/nscep/. EPA is updating the following regulations to reflect this new information:

—Section 141.23(k)(1)

—Section 141.74(a)(1)

—Section 143.4(b)

D. Summary of Public Comments

EPA requested public comment in the proposed rule (USEPA 2008b) and received one comment. This comment is available in the docket for this final rule. The comment concerns a section of the Stage 2 DBPR for which EPA did not propose a change, nor was the section discussed in the proposed rule. Therefore, the comment is outside the scope of this rulemaking. The commenter noted that the reduced monitoring frequency and the distribution system monitoring location per monitoring period for ground water systems serving fewer than 500 people in the table in 40 CFR 141.623(a) did not agree. Systems in that category that qualify for reduced monitoring are required to take one TTHM and one HAA5 sample every third year, with a provision for the system to take a dual sample set (a TTHM and an HAA5 sample taken at the same location and the same time) if specific criteria are met. The monitoring period in the column titled “Distribution system monitoring location per monitoring period” indicates that the monitoring period for a dual sample set is per year, rather than every third year, which is what it should have been to agree with the monitoring frequency. Since the Agency did not propose this correction, it will not address it in this final action.

II. Statutory and Executive Order Reviews

A. Executive Order 12866: Regulatory Planning and Review

This action is not a “significant regulatory action” under the terms of Executive Order (EO) 12866 (58 FR 51735, October 4, 1993) and is therefore not subject to review under the EO.

B. Paperwork Reduction

This action does not impose any new information collection burden. In this action, EPA is making a minor correction to the Stage 2 DBPR, adding references in the Code of Federal Regulations (CFR) to the list of methods approved under the Expedited Approval Process, removing references to outdated methods in the CFR, and specifying a new source for the publication titled Technical Notes on Drinking Water Methods. However, the Office of Management and Budget (OMB) has previously approved the information collection requirements contained in the Stage 2 DBPR existing regulations at 40 CFR Part 141 under the provisions of the Paperwork Reduction Act, 44 U.S.C. 3501 et seq. and has assigned OMB control number (number 2040-0265). The OMB control numbers for EPA's regulations in 40 CFR are listed in 40 CFR part 9. There is no burden associated with regard to the minor, editorial changes in references to analytical methods in the CFR. This action does not impose any new information collection burden under the provisions of the Paperwork Reduction Act, 44 U.S.C. 3501 et seq.

C. Regulatory Flexibility Act

The Regulatory Flexibility Act (RFA) generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

The RFA provides default definitions for each type of small entity. Small entities are defined as: (1) A small business as defined by the Small Business Administration's (SBA) regulations at 13 CFR 121.201; (2) a small governmental jurisdiction that is a government of a city, county, town, school district or special district with a population of less than 50,000; and (3) a small organization that is any “not-for-profit enterprise which is independently owned and operated and is not dominant in its field.” However, the RFA also authorizes an agency to use alternative definitions for each category of small entity, “which are appropriate to the activities of the agency” after proposing the alternative definition(s) in the Federal Register and taking comment. 5 U.S.C. 601(3)-(5). In addition, to establish an alternative small business definition, agencies must consult with SBA's Chief Counsel for Advocacy.

For purposes of assessing the impacts of today's rule on small entities, EPA considered small entities to be public water systems (PWS) serving 10,000 or fewer persons. As required by the RFA, EPA proposed using this alternative definition in the Federal Register (63 FR 7620, February 13, 1998), requested public comment, consulted with the Small Business Administration (SBA), and finalized the alternative definition in the Consumer Confidence Reports regulation (63 FR 44511, August 19, 1998). As stated in that Final Rule, the alternative definition would be applied to this regulation as well.

After considering the economic impacts of today's final rule on small entities, I certify that this action will not have a significant economic impact on a substantial number of small entities. This correction does not impose any new costs or burdens on PWSs. The ground water system monitoring costs were accounted for and detailed in the Stage 2 DBPR Economic Analysis and summarized in the preamble of the Stage 2 DBPR (USEPA, 2006a). A copy of Stage 2 DBPR and the final rule's Economic Analysis can be found in the Docket for this rule.

D. Unfunded Mandates Reform Act

This action contains no Federal mandates under the provisions of Title II of the Unfunded Mandates Reform Act of 1995 (UMRA), 2 U.S.C. 1531-1538 for State, local, or tribal governments or the private sector. This rule makes a minor correction to the Stage 2 DBPR and minor, editorial changes in references to analytical methods in the Code of Federal Regulations. Therefore, this rule is not subject to the requirements of sections 202 or 205 of UMRA.

This rule is also not subject to the requirements of section 203 of UMRA because it contains no regulatory requirements that might significantly or uniquely affect small governments. As previously stated, this rule makes a minor correction to the Stage 2 DBPR and minor, editorial changes in references to analytical methods in the Code of Federal Regulations; actions that will not significantly or uniquely affect small governments.

E. Executive Order 13132 (Federalism)

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

This final rule does not have federalism implications. It will not have substantial direct effects on the States, on the relationship between the national government and the States, or on the distribution of power and responsibilities among the various levels of government, as specified in Executive Order 13132. This rule makes a minor correction to the Stage 2 DBPR and minor, editorial changes in references to analytical methods in the Code of Federal Regulations. The Stage 2 DBPR (USEPA 2006) states that the final rule will not have federalism implications and, with regard to the minor, editorial changes to references of analytical methods in the Code of Federal Regulations, those changes do not impose substantial direct effects on the States, on the relationship between the national government and the States, or on the distribution of power and responsibilities among the various levels of government. Thus, Executive Order 13132 does not apply to this rule.

In the spirit of Executive Order 13132, and consistent with EPA policy to promote communications between EPA and State and local governments, EPA specifically solicited comment on the proposed rule from State and local officials.

F. Executive Order 13175

This action does not have tribal implications, as specified in Executive Order 13175 (65 FR 67249, November 9, 2000). This rule makes a minor correction to the Stage 2 DBPR and minor, editorial changes in references to analytical methods in the Code of Federal Regulations, actions that will not have tribal implications. Thus, Executive Order 13175 does not apply to this action.

G. Executive Order 13045: Protection of Children From Environmental Health Risks and Safety Risks

EPA interprets EO 13045 (62 FR 19885, April 23, 1997) as applying only to those regulatory actions that concern health or safety risks, such that the analysis required under section 5-501 of the EO has the potential to influence the regulation. This action is not subject to EO 13045 because it does not establish an environmental standard intended to mitigate health or safety risks.

H. Executive Order 13211: Actions Concerning Regulations That Significantly Affect Energy Supply, Distribution, or Use

This action is not subject to Executive Order 13211 (66 FR 18355 (May 22, 2001)), because it is not a significant regulatory action under Executive Order 12866.

I. National Technology Transfer and Advancement Act

Section 12(d) of the National Technology Transfer and Advancement Act of 1995 (“NTTAA”), Public Law 104-113, 12(d) (15 U.S.C. 272 note) directs EPA to use voluntary consensus standards in its regulatory activities unless to do so would be inconsistent with applicable law or otherwise impractical. Voluntary consensus standards are technical standards (e.g., materials specifications, test methods, sampling procedures, and business practices) that are developed or adopted by voluntary consensus standards bodies. The NTTAA directs EPA to provide Congress, through OMB, explanations when the Agency decides not to use available and applicable voluntary consensus standards.

This final rule does not involve technical standards. Therefore, EPA is not considering the use of any voluntary consensus standards.

J. Executive Order 12898: Federal Actions To Address Environmental Justice in Minority Populations and Low-Income Populations

Executive Order (EO) 12898 (59 FR 7629 (Feb. 16, 1994)) establishes federal executive policy on environmental justice. Its main provision directs federal agencies, to the greatest extent practicable and permitted by law, to make environmental justice part of their mission by identifying and addressing, as appropriate, disproportionately high and adverse human health or environmental effects of their programs, policies, and activities on minority populations and low-income populations in the United States.

EPA has determined that this final rule will not have disproportionately high and adverse human health or environmental effects on minority or low-income populations because it does not affect the level of protection provided to human health or the environment. This rule makes a minor correction to the Stage 2 DBPR and minor, editorial changes in references to analytical methods in the Code of Federal Regulations. These actions will not have a disproportionately high and adverse human health or environmental effects on any population, including any minority or low-income population.

K. Congressional Review Act

The Congressional Review Act, 5 U.S.C. 801 et seq., as added by the Small Business Regulatory Enforcement Fairness Enforcement Act of 1996, generally provides that before a rule may take effect, the agency promulgating the rule must submit a rule report, which includes a copy of the rule, to each house of the Congress and the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This rule will be effective July 29, 2009.

References

USEPA. 2005a. Economic Analysis for the Final Stage 2 Disinfectants and Disinfection Byproducts Rule. Washington, DC. EPA 815-R-05-010.

USEPA. 2005b. Information Collection Request for National Primary Drinking Water Regulations: Final Stage 2 Disinfectants and Disinfection Byproducts Rule. Washington, DC. EPA 815-Z-05-002.

USEPA. 2006. National Primary Drinking Water Regulations: Stage 2 Disinfectants and Disinfection Byproducts Rule. EPA 815-Z-06-002. 71 FR 4644. January 4, 2006.

USEPA. 2008a. Expedited Approval of Alternative Test Procedures for the Analysis of Contaminants Under the Safe Drinking Water Act; Analysis and Sampling Procedures. 73 FR 17902. June 3, 2008.

USEPA. 2008b. National Primary Drinking Water Regulations: Minor Correction to Stage 2 Disinfectants and Disinfection Byproducts Rule and Changes in References to Analytical Methods. EPA 815-Z-08-003. 73 FR 67456. November 14, 2008.

List of Subjects

40 CFR Part 141

Environmental protection, Chemicals, Incorporation by reference, Indians—lands, Intergovernmental relations, Radiation protection, Reporting and recordkeeping requirements, Water supply.

40 CFR Part 143

Chemicals, Indians—lands, Water—supply.

Dated: June 16, 2009.
Lisa P. Jackson,
Administrator.

For the reasons set forth in the preamble, Title 40 chapter I of the Code of Federal Regulations is amended as follows:

PART 141—NATIONAL PRIMARY DRINKING WATER REGULATIONS

1. The authority citation for part 141 continues to read as follows:

Authority: 42 U.S.C. 300f, 300g-1, 300g-2, 300g-3, 300g-4, 300g-5, 300g-6, 300j-4, 300j-9, and 300j-11.

2. Section 141.21 is amended by revising the introductory text preceding the table in paragraph (f)(3), and the introductory text of paragraph (f)(6), to read as follows:

§ 141.21 Coliform sampling.

* * * * *

(f) * * *

(3) Public water systems must conduct total coliform analyses in accordance with one of the analytical methods in the following table or one of the alternative methods listed in Appendix A to subpart C of this part.

* * * * *

(6) Public water systems must conduct analysis of Escherichia coli in accordance with one of the following analytical methods or one of the alternative methods listed in Appendix A to subpart C of this part.

* * * * *

3. Section 141.23 is amended as follows by:

a. Revising the introductory text preceding the table in paragraph (k)(1);

b. Revising entry 3 in the table to paragraph (k)(1);

c. Revising footnotes 13 and 14 to the table to paragraph (k)(1); and

d. Removing and reserving footnote 15 to the table to paragraph (k)(1).

§ 141.23 Inorganic chemical sampling and analytical requirements.

* * * * *

(k) * * *

(1) Analysis for the following contaminants shall be conducted in accordance with the methods in the following table, or the alternative methods listed in Appendix A to subpart C of this part, or their equivalent as determined by EPA. Criteria for analyzing arsenic, barium, beryllium, cadmium, calcium, chromium, copper, lead, nickel, selenium, sodium, and thallium with digestion or directly without digestion, and other analytical test procedures are contained in Technical Notes on Drinking Water Methods, EPA-600/R-94-173, October 1994. This document is available from the National Service Center for Environmental Publications (NSCEP), P.O. Box 42419, Cincinnati, OH 45242-0419 or http://www.epa.gov/nscep/.

Contaminant | Methodology ¹³ | EPA | ASTM ³ | SM ⁴ (18th, 19th ed.) | SM ⁴ (20th ed.) | SM online ²² | Other
* * * * * * *
3. Arsenic ¹⁴ | ICP-Mass Spectrometry | ² 200.8
| Atomic Absorption; Platform | ² 200.9
| Atomic Absorption; Furnace |  | D2972-97, 03 C | 3113 B |  | 3113 B-99
| Hydride Atomic Absorption |  | D1972-97, 03 B | 3114 B |  | 3114 B-97
* * * * * * *
* * * * *
² “Methods for the Determination of Metals in Environmental Samples—Supplement I,” EPA/600/R-94/111, May 1994. Available at NTIS, PB95-125472.
³ Annual Book of ASTM Standards, 1994, 1996, 1999, or 2003, Vols. 11.01 and 11.02, ASTM International; any year containing the cited version of the method may be used. The previous version of D1688-95A, D1688-95C (copper), D3559-95D (lead), D1293-95 (pH), D1125-91A (conductivity) and D859-94 (silica) are also approved. These previous versions D1688-90A, C; D3559-90D, D1293-84, D1125-91A and D859-88, respectively are located in the Annual Book of ASTM Standards, 1994, Vol. 11.01. Copies may be obtained from ASTM International, 100 Barr Harbor Drive, West Conshohocken, PA 19428.
⁴ Standard Methods for the Examination of Water and Wastewater, 18th edition (1992), 19th edition (1995), or 20th edition (1998). American Public Health Association, 1015 Fifteenth Street, NW., Washington, DC 20005. The cited methods published in any of these three editions may be used, except that the versions of 3111 B, 3111 D, 3113 B and 3114 B in the 20th edition may not be used.
* * * * *
¹³ Because MDLs reported in EPA Methods 200.7 and 200.9 were determined using a 2x preconcentration step during sample digestion, MDLs determined when samples are analyzed by direct analysis (i.e., no sample digestion) will be higher. For direct analysis of cadmium by Method 200.7, sample preconcentration using pneumatic nebulization may be required to achieve lower detection limits. Preconcentration may also be required for direct analysis of antimony, lead, and thallium by Method 200.9; antimony and lead by Method 3113 B; and lead by Method D3559-90D, unless multiple in-furnace depositions are made.
¹⁴ If ultrasonic nebulization is used in the determination of arsenic by Method 200.8, the arsenic must be in the pentavalent state to provide uniform signal response. For direct analysis of arsenic with Method 200.8 using ultrasonic nebulization, samples and standards must contain 1 mg/L of sodium hypochlorite.
¹⁵ [Reserved]
* * * * *
²² Standard Methods Online are available at http://www.standardmethods.org. The year in which each method was approved by the Standard Methods Committee is designated by the last two digits in the method number. The methods listed are the only online versions that may be used.
* * * * *

4. Section 141.24 is amended by:

a. Revising paragraph (e) introductory text;

b. Removing and reserving footnote 1 to the table to paragraph (e)(1); and

c. Removing and reserving paragraph (e)(2).

§ 141.24 Organic chemicals, sampling and analytical requirements.

* * * * *

(e) Analyses for the contaminants in this section shall be conducted using the methods listed in the following table, or the alternative methods listed in Appendix A to subpart C of this part, or their equivalent as determined by EPA.

(1) * * *

Contaminant | EPA method | Standard methods | ASTM | Other
* * * * * * *
¹ [Reserved]

* * * * *

(2) [Reserved]

* * * * *

5. Section 141.25 is amended by revising the introductory text preceding the table in paragraph (a) to read as follows:

§ 141.25 Analytical methods for radioactivity.

(a) Analysis for the following contaminants shall be conducted to determine compliance with § 141.66 (radioactivity) in accordance with the methods in the following table, or the alternative methods listed in Appendix A to subpart C this part, or their equivalent determined by EPA in accordance with § 141.27.

* * * * *

6. Section 141.74 is amended by revising the introductory text preceding the tables in paragraphs (a)(1) and (a)(2) to read as follows:

§ 141.74 Analytical and monitoring requirements.

(a) * * *

(1) Public water systems must conduct analysis of pH and temperature in accordance with one of the methods listed at § 141.23(k)(1). Public water systems must conduct analysis of total coliforms, fecal coliforms, heterotrophic bacteria, and turbidity in accordance with one of the following analytical methods or one of the alternative methods listed in Appendix A to subpart C of this part and by using analytical test procedures contained in Technical Notes on Drinking Water Methods, EPA-600/R-94-173, October 1994. This document is available from the National Service Center for Environmental Publications (NSCEP), P.O. Box 42419, Cincinnati, OH 45242-0419 or http://www.epa.gov/nscep/.

* * * * *

(2) Public water systems must measure residual disinfectant concentrations with one of the analytical methods in the following table or one of the alternative methods listed in Appendix A to subpart C of this part. If approved by the State, residual disinfectant concentrations for free chlorine and combined chlorine also may be measured by using DPD colorimetric test kits. In addition States may approve the use of the ITS free chlorine test strip for the determination of free chlorine. Use of the test strips is described in Method D99-003, “Free Chlorine Species (HOCl− and OCl−) by Test Strip,” Revision 3.0, November 21, 2003, available from Industrial Test Systems, Inc., 1875 Langston St., Rock Hill, SC 29730. Free and total chlorine residuals may be measured continuously by adapting a specified chlorine residual method for use with a continuous monitoring instrument provided the chemistry, accuracy, and precision remain the same. Instruments used for continuous monitoring must be calibrated with a grab sample measurement at least every five days, or with a protocol approved by the State.

* * * * *

7. Section 141.131 is amended by revising paragraphs (b)(1) introductory text, (c)(1) introductory text, and (d) introductory text to read as follows:

§ 141.131 Analytical requirements.

* * * * *

(b) * * * (1) Systems must measure disinfection byproducts by the methods (as modified by the footnotes) listed in the following table or one of the alternative methods listed in Appendix A to subpart C of this part:

* * * * *

(c) * * * (1) Systems must measure residual disinfectant concentration for free chlorine, combined chlorine (chloramines), and chlorine dioxide by the methods listed in the following table or one of the alternative methods listed in Appendix A to subpart C of this part:

* * * * *

(d) Additional analytical methods. Systems required to analyze parameters not included in paragraphs (b) and (c) of this section must use the following methods or one of the alternative methods listed in Appendix A to subpart C of this part. A party approved by EPA or the State must measure these parameters.

* * * * *

8. Section 141.402 is amended by revising paragraph (c)(2) introductory text preceding the table to read as follows:

§ 141.402 Ground water source microbial monitoring and analytical methods.

* * * * *

(c) * * *

(2) A ground water system must analyze all ground water source samples collected under paragraph (a) of this section using one of the analytical methods listed in the following table in paragraph (c)(2) of this section or one of the alternative methods listed in Appendix A to subpart C of this part for the presence of E. coli, enterococci, or coliphage:

* * * * *

9. Section 141.605 is amended by revising footnote 2 to the table in paragraph (b) to read as follows:

§ 141.605 Subpart V compliance monitoring location recommendations.

* * * * *

(b) * * *

² Systems on quarterly monitoring must take dual sample sets every 90 days at each monitoring location, except for subpart H systems serving 500-3,300. Ground water systems serving 500-9,999 on annual monitoring must take dual sample sets at each monitoring location. All other systems on annual monitoring and subpart H systems serving 500-3,300 are required to take individual TTHM and HAA5 samples (instead of a dual sample set) at the locations with the highest TTHM and HAA5 concentrations, respectively. For systems serving fewer than 500 people, only one location with a dual sample set per monitoring period is needed if the highest TTHM and HAA5 concentrations occur at the same location and month.

* * * * *

10. Section 141.621 is amended by revising footnote 2 to the table in paragraph (a)(2) to read as follows:

§ 141.621 Routine monitoring.

(a) * * *

(2) * * *

² Systems on quarterly monitoring must take dual sample sets every 90 days at each monitoring location, except for subpart H systems serving 500-3,300. Ground water systems serving 500-9,999 on annual monitoring must take dual sample sets at each monitoring location. All other systems on annual monitoring and subpart H systems serving 500-3,300 are required to take individual TTHM and HAA5 samples (instead of a dual sample set) at the locations with the highest TTHM and HAA5 concentrations, respectively. For systems serving fewer than 500 people, only one location with a dual sample set per monitoring period is needed if the highest TTHM and HAA5 concentrations occur at the same location and month.

* * * * *

11. Section 141.704 is amended by revising paragraphs (a) introductory text and (b) introductory text to read as follows:

§ 141.704 Analytical methods.

(a) Cryptosporidium. Systems must analyze for Cryptosporidium using Method 1623: Cryptosporidium and Giardia in Water by Filtration/IMS/FA, 2005, United States Environmental Protection Agency, EPA-815-R-05-002 or Method 1622: Cryptosporidium in Water by Filtration/IMS/FA, 2005, United States Environmental Protection Agency, EPA-815-R-05-001, which are incorporated by reference, or alternative methods listed in Appendix A to subpart C of this part. The Director of the Federal Register approves this incorporation by reference in accordance with 5 U.S.C. 552(a) and 1 CFR part 51. You may obtain a copy of these methods online from http://www.epa.gov/safewater/disinfection/lt2 or from the United States Environmental Protection Agency, Office of Ground Water and Drinking Water, 1201 Constitution Ave., NW., Washington, DC 20460 (Telephone: 800-426-4791). You may inspect a copy at the Water Docket in the EPA Docket Center, 1301 Constitution Ave., NW., Washington, DC (Telephone: 202-566-2426) or at the National Archives and Records Administration (NARA). For information on the availability of this material at NARA, call 202-741-6030, or go to: http://www.archives.gov/federal_register/code_of_federal_regulations/ibr_locations.html.

* * * * *

(b) E. coli. System must use methods for enumeration of E. coli in source water approved in § 136.3(a) of this chapter or alternative methods listed in Appendix A to subpart C of this part.

* * * * *

PART 143—NATIONAL SECONDARY DRINKING WATER REGULATIONS

12. The authority citation for part 143 continues to read as follows:

Authority: U.S.C. 300f, 300g-1, 300g-2, 300g-3, 300g-4, 300g-5, 300g-6, 300j-4, 300j-9, and 300j-11.

13. Section 143.4 is amended by revising the introductory text preceding the table in paragraph (b) to read as follows:

§ 143.4 Monitoring.

* * * * *

(b) Measurement of pH, copper and fluoride to determine compliance under § 143.3 may be conducted with one of the methods in § 141.23(k)(1). Analyses of aluminum, chloride, foaming agents, iron, manganese, odor, silver, sulfate, total dissolved solids (TDS) and zinc to determine compliance under § 143.3 may be conducted with the methods in the following table or alternative methods listed in Appendix A to subpart C of part 141. Criteria for analyzing aluminum, copper, iron, manganese, silver and zinc samples with digestion or directly without digestion, and other analytical test procedures are contained in Technical Notes on Drinking Water Methods, EPA-600/R-94-173, October 1994. This document is available from the National Service Center for Environmental Publications (NSCEP), P.O. Box 42419, Cincinnati, OH 45242-0419 or http://www.epa.gov/nscep/.

* * * * *

[FR Doc. E9-14598 Filed 6-26-09; 8:45 am]

BILLING CODE 6560-50-P